ENVIRONMENTAL PROTECTION AGENCY

[FRL-6934-2]

Science Advisory Board; Notification of Public Advisory Committee Meeting

Pursuant to the Federal Advisory Committee Act, Public Law 92-463, notice is hereby given that the Science Advisory Board's (SAB's) Executive Committee will meet on the dates and times noted below. All times noted are Eastern Time. The meetings are open to the public, however, seating is limited and available on a first come basis.

1. Executive Committee—Teleconference Meeting—February 1, 2001

The U.S. EPA's Science Advisory Board (SAB) will conduct a public teleconference meeting on Thursday, February 1, 2001 between the hours of 1 and 3 p.m. Eastern Time. The meeting will be coordinated through a conference call connection in Room 6013 in the U.S. EPA, Ariel Rios Building, 1200 Pennsylvania Avenue, NW., Washington, DC 20460. The public is encouraged to attend the meeting in the conference room noted above. However, the public may also attend through a telephonic link, to the extent that lines are available. Additional instructions about how to participate in the conference call can be obtained by calling Ms. Diana Pozun no earlier than one week prior to the meeting (beginning on January 25) at (202) 564-4544, or via e-mail at pozun.diana@epa.gov.

Purpose of the Meeting: In this meeting, the Executive Committee plans to review reports from some of its Committees/Subcommittee, most likely including the following:

(a) Natural Attenuation Research Subcommittee of the Environmental Engineering Committee (EEC) “Review of EPA's Natural Attenuation Research Program” (see 65 FR 60189, dated October 10, 2000 for details).

(b) Radiation Advisory Committee (RAC): “An SAB Advisory: A Review of ORIA's Use and Adaptation of GENII Environmental Radiation Dosimetry System, GENII Version 2 (v.2)” (see 65 FR 18095, dated April 6, 2000 for details).

Availability of Review Materials: Drafts of the reports that will be reviewed at the meeting will be available to the public on the SAB website (http://www.epa.gov/sab) by close-of-business on January 16, 2001.

For Further Information: Any member of the public wishing further information concerning this meeting or wishing to submit brief oral comments must contact Dr. Donald Barnes, Designated Federal Officer, Science Advisory Board (1400A), U.S. Environmental Protection Agency, 1200 Pennsylvania Avenue, NW., Washington, DC 20460; telephone (202) 564-4533; FAX (202) 501-0323; or via e-mail at barnes.don@epa.gov. Requests for oral comments must be in writing (e-mail preferred) and received by Dr. Barnes no later than noon Eastern Time on January 25, 2001.

2. Executive Committee—February 5-6, 2001

The U.S. EPA Science Advisory Board's (SAB's) Executive Committee will conduct a public meeting on Monday and Tuesday, February 5-6, 2001. The meeting will convene each day at 8:30 a.m. in Room 6013, U.S. Environmental Protection Agency, Ariel Rios Building, 1200 Pennsylvania Avenue, NW, Washington, DC 20460. The meeting will adjourn no later than 5 p.m. each day.

Purpose of the Meeting: At this meeting, the Executive Committee will receive updates from its committees and subcommittees concerning their recent and planned activities. As part of these updates, some committees will present draft reports for Executive Committee review and approval. We anticipate that the following report will be completed by the SAB Subcommittee involved and be ready for Executive Committee review at this meeting, however, to determine if this, or any other reports are under consideration at this meeting, please contact Ms. Diana Pozun at (202) 564-4544 or pozun.diana@epa.gov. Draft report(s) will appear on the Science Advisory Board website (www.epa.gov/sab) approximately two weeks prior to the meeting.

(a) Dioxin Reassessment Review Committee (DRRC) of the Science Advisory Board (SAB) “Review of EPA's Draft Exposure and Human Health Reassessment of 2,3,7,8-Tetrachlorodibenzo-p-Dioxin (TCDD) and Related Compounds” (see 65 FR 60190, dated October 10, 2000 for details).

As part of this two day meeting, the Executive Committee will also: (a) Meet with various Agency officials to discuss matters of mutual interest; (b) receive briefings from Agency staff on various topics; and (c) discuss future business of the Board including projects for FY2001.

Availability of Materials: The draft meeting agenda and drafts of any reports that will be reviewed at the meeting will be available to the public on the SAB website (http://www.epa.gov/sab) by close-of-business on January 22, 2001.

For Further Information: Any member of the public wishing further information concerning this meeting should contact Dr. Donald G. Barnes, Designated Federal Officer (DFO) for the Executive Committee at U.S. EPA Science Advisory Board (1400A), 1200 Pennsylvania Avenue NW., Washington, DC 20460; phone (202) 564-4533; fax (202) 501-0323; or via e-mail at <barnes.don@epa.gov>. Those wishing to submit brief oral comments should contact Dr. Barnes, in writing, no later than close of business January 29, 2001.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information: Additional information concerning the Science Advisory Board, its structure, function, and composition, may be found on the SAB website (http://www.epa.gov/sab) and in The FY2000 Annual Report of the Staff Director which is available from the SAB Publications Staff at (202) 564-4533 or via fax at (202) 501-0256. Committee rosters, draft Agendas and meeting calendars are also located on our website.

Meeting Access: Individuals requiring special accommodation at this meeting, including wheelchair access to the conference room, should contact Dr. Barnes at least five business days prior to the meeting so that appropriate arrangements can be made.

Dated: January 11, 2001.
Donald G. Barnes,
Staff Director, Science Advisory Board.

[FR Doc. 01-1520 Filed 1-17-01; 8:45 am]

BILLING CODE 6560-50-P